DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed revision of the Report of Construction Contractor's Wage Rates (WD-10).

DATES: Written comments must be submitted to the office listed in the addressee section below no later than September 17, 2001.

ADDRESSES: Ms. Patricia A. Forkel, U.S. Department of Labor, 200 Constitution Ave., N.W., Room S-3201, Washington, D.C. 20210, telephone (202) 693-0339 (this is not a toll-free number), fax (202) 693-1451.

SUPPLEMENTARY INFORMATION:

I. Background

The Davis-Bacon Act provides that every government contract in excess of $2,000 which involves the employment of mechanics and/or laborers, contain a provision stating the minimum wages to be paid, which are based on the prevailing wage rate in the area for corresponding classes of mechanics and laborers employed on similar projects. Further, Section 1.3 of 29 CFR part I provides that the Wage and Hour Administrator will conduct a continuing program for the obtaining and compiling of wage rate information for the purpose of making wage determinations.

II. Review Focus

The Department of Labor is particularly interested in comments which:

• evaluate whether the proposed collection of information is necessary for the proper performance of the functions of the agency, including whether the information will have practical utility;

• evaluate the accuracy of the agency's estimate of the burden of the proposed collection of information, including the validity of the methodology and assumptions used;

• enhance the quality, utility and clarity of the information to be collected; and

• minimize the burden of the collection of information on those who are to respond, including through the use of appropriate automated, electronic, mechanical, or other technological collection techniques or other forms of information technology, e.g., permitting electronic submissions of responses.

III. Current Actions

The Wage and Hour Division seeks the approval of the revision of the currently approved information collection WD-10. The form has been revised in format to allow information to fit on legal size paper (8½ x 14). Instructions have been provided on a second page. The WD-10 form has been revised to be user friendly and machine readable. Electronic imaging of WD-10 forms will expedite data transfer from hard copy to the supporting database. The form redesign is necessary for character recognition software to work effectively. An electronic WD-10 form is being developed which mirrors the paper form and will make it easier for respondents to provide information. The revision of the paper WD-10 and electronic submission of Form WD-10 will expedite data transfer to the supporting database. The use of the electronic WD-10 will expedite the survey process to allow more accurate and timely wage determinations. It is anticipated that completion and electronic submission capability of the WD-10 over the Internet will occur in 2002.

Type of Review: Revision.

Agency: Employment Standards Administration.

Title: Report of Construction Contractor's Wage Rates.

OMB Number: 1215-0046.

Agency Number: WD-10.

Affected Public: Businesses or other for-profit.

Frequency: On occasion.

Total Respondents: 37,500.

Total Responses: 75,000.

Time per Response: 20 minutes.

Estimated Total Burden Hours: 25,000.

Total Burden Cost (capital/startup): $0.

Total Burden Cost (operating/maintenance): $0.

Comments submitted in response to this notice will be summarized and/or included in the request for Office of Management and Budget approval of the information collection request; they will also become a matter of public record.

Dated: June 25, 2001.
Margaret J. Sherrill,
Chief, Branch of Management Review and Internal Control, Division of Financial Management, Office of Management, Administration and Planning, Employment Standards Administration.

[FR Doc. 01-17970 Filed 7-17-01; 8:45 am]

BILLING CODE 4510-27-P